DEPARTMENT OF THE INTERIOR

Bureau of Land Management

[L10200000-MJ0000-LLORL00000; HAG 09-0133]

Notice of Meeting, Southeast Oregon Resource Advisory Council (Oregon)

AGENCY: Bureau of Land Management, Interior.

ACTION: Notice of public meeting.

SUMMARY: Pursuant to the Federal Land Policy and Management Act and the Federal Advisory Committee Act, the U.S. Department of the Interior, Bureau of Land Management (BLM) Southeast Oregon Resource Advisory Council (SEORAC) will meet as indicated below:

DATES: The meeting on May 7, 2009, will begin at 10 a.m. and on May 8, 2009, at 8 a.m.

ADDRESSES: The May 7 Council meeting will be at the Christmas Valley Lodge Restaurant and Lounge, 87285 Christmas Valley Highway, Christmas Valley, Oregon. On May 8 the Council meets at BLM's Lakeview District Office, 1301 South G Street, Lakeview, Oregon 97630.

FOR FURTHER INFORMATION CONTACT: Scott Stoffel, Public Affairs Specialist, 1301 South G Street, Lakeview, OR 97630, (541) 947-6237.

SUPPLEMENTARY INFORMATION: The SEORAC advises the Secretary of the Interior, through the BLM, on a variety of planning and management issues for public lands in the Lakeview, Burns and Vale BLM Districts and the Fremont-Winema and Malheur National Forests. Planned agenda topics include: vegetation treatment methods used by the BLM's Lakeview District at two sites in north Lake County; the Fremont-Winema National Forests' Travel Management Plan and Draft Environmental Impact Statement for Invasive Plant Treatment; BLM and Forest Service sagebrush habitat treatment monitoring efforts, strategies for combating Medusahead, and American Recovery and Investment Act projects; local sage-grouse conservation efforts; resource management plan settlement negotiations for the BLM's Vale District and Lakeview Districts; the EaglePicher diatomite mine expansion; the status of the Oregon Explorer grant; and proposed amendments to The Wild Free-Roaming Horses and Burros Act of 1971. Other agenda items include: manager updates on current land management issues, reports from active subgroups, a decision about participating on Oregon's Sage-Grouse Team, discussion of forming a Wild Horse and Burro subgroup, developing agenda items for the next meeting, and any other matters that may reasonably come before the SEORAC.

The public is welcome to attend all portions of the meeting and may make oral comments to the Council at 1 p.m. on May 8, 2009. Those who verbally address the SEORAC are asked to provide a written statement of their comments or presentation. Unless otherwise approved by the SEORAC Chair, the public comment period will last no longer than 30 minutes, and each speaker may address the SEORAC for a maximum of five minutes. The meeting agenda will be posted at http://www.blm.gov/or/rac/seorrac-minutes.php when available. If reasonable accommodation is required, please contact the BLM's Lakeview District at (541) 947-2177 as soon as possible.

Dated: March 27, 2009.
Carol A. Benkosky,
District Manager, Lakeview District Office.

[FR Doc. E9-7611 Filed 4-3-09; 8:45 am]

BILLING CODE 4310-33-P